DEPARTMENT OF HOMELAND SECURITY

Coast Guard

33 CFR Part 165

[Docket No. USCG-2012-1036]

Safety Zones; Annual Events Requiring Safety Zones in the Captain of the Port Zone Sector Long Island Sound

AGENCY: Coast Guard, DHS.

ACTION: Notice of enforcement of regulation.

SUMMARY: The Coast Guard will enforce safety zones for the marine events listed below to provide for the safety of life during the events. During the enforcement periods, no person or vessel may enter the safety zone without permission of the Captain of the Port (COTP) Sector Long Island Sound or their designated representative.

DATES: The regulations 33 CFR 165.151 Table 1 will be enforced during the dates and times listed in Supplementary Information.

FOR FURTHER INFORMATION CONTACT: If you have questions about this notice of enforcement, call or email MST2 Joshua Stewart, Waterways Management Division, U.S. Coast Guard; telephone 203-468-4469, email joshua.f.stewart@uscg.mil.

SUPPLEMENTARY INFORMATION: The Coast Guard will enforce the safety zones listed in 33 CFR 165.151 Table 1 on the dates and times indicated below.

7.1 Point O'Woods Summer Fireworks | • Date: July 4, 2020.
| • Time: 8:45 p.m. to 11:00 p.m.
| • Location: Waters of the Great South Bay, Point O'Woods, NY in approximate position 40°39′18.57″ N, 073°08′5.73″ W (NAD 83).
7.5 Lawrence Beach Club Fireworks Display | • Date: July 3, 2020.
| • Time: 8:30 p.m. to 10:30 p.m.
| • Location: Waters of the Atlantic Ocean off Lawrence Beach Club, Atlantic Beach, NY in approximate position 40°34′42.65″ N, 073°42′56.02″ W (NAD 83).
7.7 Southampton Fresh Air Fund | • Date: July 3, 2020.
| • Rain Date: July 5, 2020.
| • Time: 8:45 p.m.
| • Location: Waters of Shinnecock Bay, Southampton, NY in approximate position, 40°51′48″ N, 072°26′30″ W (NAD 83).
7.27 City of Long Beach Fireworks | • Date: July 10, 2020.
| • Time: 9:00 p.m. to 10:00 p.m.
| • Location: Waters off Riverside Blvd., City of Long Beach, NY in approximate position 40°34′38.77″ N, 073°39′41.32″ W (NAD 83).

Under the provisions of 33 CFR 165.151, the events listed above are established as safety zones. During the enforcement period, persons and vessels are prohibited from entering into, transiting through, mooring, or anchoring within these regulated areas unless they receive permission from the COTP or designated representative.

This notification is issued under authority of 33 CFR part 100 and 5 U.S.C. 552 (a). In addition to this document in the Federal Register, the Coast Guard will provide the maritime community with advance notification of this enforcement periods via the Local Notice to Mariners or marine information broadcasts.

Dated: June 2, 2020.
K.B. Reed,
Captain, U.S. Coast Guard, Captain of the Port Long Island Sound.

[FR Doc. 2020-12352 Filed 6-22-20; 8:45 am]

BILLING CODE 9110-04-P